DEPARTMENT OF JUSTICE

Antitrust Division

Notice Pursuant to the National Cooperative Research and Production Act of 1993—EIFS Industry Members Association

Notice is hereby given that, on August 31, 2004, pursuant to Section 6(a) of the National Cooperative Research and Production Act of 1993, 15 U.S.C. 4301 et seq. (“the Act”), the EIFS Industry Members Association (“EIMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: EIFS Industry Members Association, Morrow, GA. The nature and scope of EIMA's standards development activities are: as a standards development institution accredited by the American National Standards Institute (“ANSI”), EIMA developed, maintains and updates the ANSI/EIMA 99-A-2001 standards which provides the requirements for specifying and installing Exterior Insulation and Finish Systems.

Dorothy B. Fountain,
Deputy Director of Operations, Antitrust Division.

[FR Doc. 04-23532 Filed 10-20-04; 8:45 am]

BILLING CODE 4410-11-M